FEDERAL ACCOUNTING STANDARDS ADVISORY BOARD

Notice of Appointment of Chairman and New FASAB Members

AGENCY: Federal Accounting Standards Advisory Board.

ACTION: Notice.

Board Action: Pursuant to 31 U.S.C. 3511(d) the Federal Advisory Committee Act (Pub. L. 92-463), as amended, and the FASAB Rules Of Procedure, as amended in October 2010, notice is hereby given that Mr. D. Scott Showalter has been appointed to serve as the Chairman of the Board beginning January 1, 2016. Mr. Showalter's term will conclude on June 30, 2019. Notice is also given that Ms. Gila Bronner and Mr. George Scott have been appointed to five-year terms as members of the Federal Accounting Standards Advisory Board (FASAB) beginning January 1, 2016.

For Further Information Regarding Ms. Bronner or Mr. Scott, Contact: Ms. Wendy M. Payne, Executive Director, 441 G St. NW., Mail Stop 6H19, Washington, DC 20548, or call (202) 512-7350.

Authority: Federal Advisory Committee Act, Public Law 92-463.

Dated: July 22, 2015.
Charles Jackson,
Federal Register Liaison Officer.

[FR Doc. 2015-18407 Filed 7-27-15; 8:45 am]

BILLING CODE 1610-02-P